DEPARTMENT OF TRANSPORTATION

Federal Aviation Administration

14 CFR Part 39

[Docket No. FAA-2005-22529; Directorate Identifier 2005-NM-099-AD]

RIN 2120-AA64

Airworthiness Directives; Boeing Model 767-200, -300, and -300F Series Airplanes

AGENCY: Federal Aviation Administration (FAA), Department of Transportation (DOT).

ACTION: Notice of proposed rulemaking (NPRM).

SUMMARY: The FAA proposes to supersede an existing airworthiness directive (AD) that applies to certain Boeing Model 767-200, -300, and -300F series airplanes. The existing AD currently requires repetitive inspections of the lubrication passage and link assembly joint in the inboard and outboard flaps of the trailing edge for discrepancies, and corrective action if necessary. This proposed AD would require new inspections for cracking or severe wear of the bearings of the link assembly, and corrective actions if necessary. This proposed AD would also require inspecting any link assembly not previously inspected for damage and replacing it with a new assembly if necessary. This proposed AD also ends the existing repetitive inspections for certain airplanes, and extends the repetitive interval for the existing repetitive inspections and the compliance time for the corrective action on certain other airplanes. This proposed AD also provides an optional terminating action that would end the repetitive inspections. This proposed AD results from additional reports indicating fractured bearings of the link assembly joint in the inboard and outboard flaps of the trailing edge. We are proposing this AD to prevent failure of the bearings in the link assembly joint, which could result in separation of the inboard or outboard flap and consequent loss of control of the airplane.

DATES: We must receive comments on this proposed AD by November 14, 2005.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street SW., Nassif Building, room PL-401, Washington, DC 20590.

• Fax: (202) 493-2251.

• Hand Delivery: Room PL-401 on the plaza level of the Nassif Building, 400 Seventh Street SW., Washington, DC, between 9 a.m. and 5 p.m., Monday through Friday, except Federal holidays.

Contact Boeing Commercial Airplanes, P.O. Box 3707, Seattle, Washington 98124-2207, for service information identified in this proposed AD.

FOR FURTHER INFORMATION CONTACT: Candice Gerretsen, Aerospace Engineer, Airframe Branch, ANM-120S, FAA, Seattle Aircraft Certification Office, 1601 Lind Avenue, SW., Renton, Washington 98055-4056; telephone (425) 917-6428; fax (425) 917-6590.

SUPPLEMENTARY INFORMATION:

Comments Invited

We invite you to submit any relevant written data, views, or arguments regarding this proposed AD. Include the docket number “Docket No. FAA-2005-22529; Directorate Identifier 2005-NM-099-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of that Web site, anyone can find and read the comments in any of our dockets, including the name of the individual who sent the comment (or signed the comment on behalf of an association, business, labor union, etc.). You may review the DOT's complete Privacy Act Statement in the Federal Register published on April 11, 2000 (65 FR 19477-78), or may can visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System receives them.

Discussion

On January 16, 2002, we issued AD 2002-01-15, amendment 39-12609 (67 FR 4328, January 30, 2002), for certain Boeing Model 767-200, -300, and -300F series airplanes. That AD requires repetitive inspections of the lubrication passage and link assembly joint in the inboard and outboard flaps of the trailing edge for discrepancies, and corrective action if necessary. That AD resulted from reports of fractured bearings and blocked lubrication passages of the link assembly joint in the inboard and outboard flaps of the trailing edge. We issued that AD to prevent failure of the bearings in the link assembly joint, which could result in separation of the outboard flap and consequent loss of control of the airplane.

Actions Since Existing AD Was Issued

The preamble to AD 2002-01-15 explains that we consider the requirements “interim action” and were considering further rulemaking. We now have determined that further rulemaking is indeed necessary, and this proposed AD follows from that determination.

Since we issued AD 2002-01-15, we have received reports of numerous additional incidents of fractured bearings of the link assembly joint in the inboard and outboard flaps of the trailing edge. In several of these additional incidents, the bearings were properly lubricated. Metallurgical examination of fractured bearings indicated environmentally assisted cracking.

These additional incidents support the data referenced in the SUPPLEMENTARY INFORMATION section of AD 2002-01-15 that indicate that bearings of the link assembly joint may fail even when they are properly lubricated. However, paragraph (b)(1) of AD 2002-01-15 allows repetitive inspections to continue indefinitely (i.e., without accomplishment of the interim corrective action referenced in paragraph (b)(3) of AD 2002-01-15) if the lubrication passage is not blocked and no fractured bearing or loose or damaged joint is found. Based on the continued reports of bearing failures, we have determined that accomplishment of the corrective action specified in the existing AD (which involves removing the link assembly, inspecting it for damage, and replacing it with a new assembly if damage is found) would ensure the continued operating safety of the affected airplane fleet better than continued repetitive inspections. Accomplishing the interim corrective action eliminates the need to repeat the inspections for discrepancies of the lubrication passage and link assembly joint.

However, based on the results of extensive testing performed by the manufacturer, we have determined that it is appropriate to extend, from 30 days to 60 days, the interval for the repetitive inspections for discrepancies of the lubrication passage and link assembly joint for certain airplanes, and to end these repetitive inspections for certain other airplanes. Also based on the results of the extensive testing, we have determined that it is appropriate to extend the compliance time for doing the corrective action (as specified in Part 2 of the referenced service bulletin) from 6 months to 24 months after the initial inspection. Accordingly, we have revised paragraphs (f) and (g) of this proposed AD (which comprise the restatement of the requirements of paragraphs (a) and (b) of AD 2002-01-15).

Relevant Service Information

We have reviewed Boeing Alert Service Bulletin 767-27A0167, Revision 2, dated October 7, 2004. (AD 2002-01-15 refers to the original issue of that service bulletin, dated December 7, 2000, as the appropriate source of service information for the actions required by that AD.) The procedures described in Part 1, Lubrication Passage and Joint Inspection; and Part 2, Link Removal, Disassembly, Inspection, and Repair; are similar to those described in the original issue of the service bulletin, except that Revision 2 of the service bulletin specifies that the inspection of the lubrication passage and joints is a detailed visual inspection. (The original issue of the service bulletin did not specify the type of inspection.)

Revision 2 of the service bulletin includes a new Part 3, Link Removal and Bearing Inspection. Part 3 describes procedures for repetitively removing the link assembly, visually inspecting the bearing ball for cracks, and inspecting the outer race of the bearing for severe wear. If no crack or evidence of severe wear is found, the service bulletin specifies that the link may be reinstalled. If any crack or excessive radial play/severe wear is found, the service bulletin says to do Part 2 of the service bulletin before further flight.

Accomplishing the actions specified in Boeing Alert Service Bulletin 767-27A0167, Revision 2, is intended to adequately address the unsafe condition.

We have also reviewed Boeing Service Bulletin 767-27-0196, dated April 21, 2005, which describes procedures for replacing the existing link assemblies of the trailing edge flaps with new, improved or modified assemblies that contain new bearings that use a bearing ball of a different material. These new bearings are not subject to environmentally induced cracking. Doing this replacement eliminates the need for the repetitive removal and inspections of the bearing ball for cracks and for severe wear of the outer race of the bearing.

FAA's Determination and Requirements of the Proposed AD

The unsafe condition described previously is likely to exist or develop on other airplanes of the same type design that may be registered in the U.S. at some time in the future. We are proposing to supersede AD 2002-01-15. For certain airplanes, this proposed AD would continue to retain the requirements of the existing AD, and would extend the repetitive interval for the existing inspections and the compliance time for the corrective action. This proposed AD would also require accomplishing the actions specified in Boeing Alert Service Bulletin 767-27A0167, Revision 2, described previously, except as discussed under “Differences Between the Proposed AD and Boeing Service Bulletin 767-27A0167, Revision 2.” This proposed AD would also provide for doing Boeing Service Bulletin 767-27-0196 as an optional terminating action for the new repetitive inspections.

Clarification of Requirements of AD 2002-01-15

As stated previously, Boeing Alert Service Bulletin 767-27A0167, Revision 2, specifies detailed visual inspections of the lubrication passage and joints for discrepancies. The original issue of that service bulletin did not specify the type of inspection that was needed, so, in AD 2002-01-15, we identify these inspections as general visual inspections, and include a definition of “general visual inspection.” As also stated previously, the procedures described in Part 1, Lubrication Passage and Joint Inspection, of Revision 2 of the service bulletin are similar to those described in the original issue of the service bulletin, except for the change in terminology. Therefore, for clarification, we have revised the inspection requirement restated in paragraph (f) of this proposed AD to specify a detailed inspection. Because the definition of this type of inspection is included in the service bulletin, it is not necessary to include the definition in this proposed AD.

Differences Between the Proposed AD and Boeing Service Bulletin 767-27A0167, Revision 2

For airplanes on which Part 2 of Boeing Service Bulletin 767-27A0167 (any revision) has not been done, Boeing Alert Service Bulletin 767-27A0167, Revision 2, specifies a compliance time of 90 days after October 7, 2004 (the release date of Revision 2 of that service bulletin) for doing Part 2 of the service bulletin. However, for these airplanes, if the lubrication passage has not been found blocked and no fractured bearing or loose or damaged joint has been found during any inspection required by paragraph (f) of this proposed AD, this proposed AD requires doing Part 2 within 24 months after the most recent inspection required by paragraph (g)(1) of this AD. If the lubrication passage has been found blocked, but no fractured bearing or loose or damaged joint has been found, this proposed AD requires doing Part 2 within 24 months after the initial inspection required by paragraph (f) of this proposed AD.

Part 3 of Boeing Alert Service Bulletin 767-27A0167, Revision 2, specifies to “visually inspect the bearing ball for cracks and the outer race for wear.” We find that the procedures for this inspection constitute a detailed inspection. Therefore, paragraph (i) of this proposed AD would require a detailed inspection for cracking of the bearing ball and for evidence of severe wear of the outer race of the bearing.

The Accomplishment Instructions of Boeing Alert Service Bulletin 767-27A0167, Revision 2, specify submitting a report of any damaged, cracked, or fractured bearings or joint pins, this proposed AD would not require that action. We do not need this information from operators.

Costs of Compliance

There are about 855 airplanes of the affected design in the worldwide fleet. The following table provides the estimated costs for U.S. operators to comply with this proposed AD, at an average labor rate of $65 per work hour.

Estimated Costs
Action | Work hours | Cost per airplane | Number of U.S.-registered airplanes | Fleet cost
Part 1 of Boeing Service Bulletin 767-27A0167 (required by AD 2002-01-15*) | 6 | $390* | 332* | $129,480*.
Part 2 of Boeing Service Bulletin 767-27A0167 (new proposed action**) | 17 | $1,105 | Up to 332** | Up to $366,860**.
Part 3 of Boeing Service Bulletin 767-27A0167 (new proposed action) | 8 | $520, per inspection cycle | 371 | $192,920, per inspection cycle.
* Repetitive Part 1 inspections are required only on condition, and only until Part 2 of Boeing Service Bulletin 767-27A0167 has been done.
** Applies to airplanes on which Part 2 has not been previously accomplished.

The optional terminating action provided in this proposed AD, if accomplished, would take about 23 work hours per airplane, at an average labor rate of $65 per work hour. Required parts would cost about $3,885 per airplane. Based on these figures, the estimated cost of the optional terminating action specified in this proposed AD is $5,380 per airplane.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-12609 (67 FR 4328, January 30, 2002) and adding the following new airworthiness directive (AD):

Boeing: Docket No. FAA-2005-22529; Directorate Identifier 2005-NM-099-AD.

Comments Due Date

(a) The FAA must receive comments on this AD action by November 14, 2005.

Affected ADs

(b) This AD supersedes AD 2002-01-15.

Applicability

(c) This AD applies to Boeing Model 767-200, -300, and -300F series airplanes; certificated in any category; identified in Boeing Alert Service Bulletin 767-27A0167, Revision 2, dated October 7, 2004.

Unsafe Condition

(d) This AD results from additional reports indicating fractured bearings of the link assembly joint in the inboard and outboard flaps of the trailing edge. We are issuing this AD to prevent failure of the bearings in the link assembly joint, which could result in separation of the inboard and outboard flap and consequent loss of control of the airplane.

Compliance

(e) You are responsible for having the actions required by this AD performed within the compliance times specified, unless the actions have already been done.

Requirements of AD 2002-01-15

Initial Inspection

(f) For airplanes having line numbers 1 through 819 inclusive, on which Part 2 of Boeing Alert Service Bulletin 767-27A0167 has not been done: Within 90 days after February 14, 2002 (the effective date of AD 2002-01-15), or within 36 months after date of manufacture of the airplane, whichever is later, do detailed inspections of the lubrication passage and link assembly joint in the inboard and outboard flaps of the trailing edge for discrepancies (e.g., lubrication passage blocked, fractured bearing, loose or damaged joint); per Part 1 of the Accomplishment Instructions of Boeing Alert Service Bulletin 767-27A0167, dated December 7, 2000; or Revision 2, dated October 7, 2004. After the effective date of this AD, only Revision 2 of the service bulletin may be used.

Repetitive Inspections/Corrective Action

(g) For airplanes having line numbers 1 through 819 inclusive, on which Part 2 of Boeing Alert Service Bulletin 767-27A0167 has not been done: Do the actions required by paragraph (g)(1), (g)(2), or (g)(3) of this AD, as applicable, at the time specified, per the Accomplishment Instructions of Boeing Alert Service Bulletin 767-27A0167, dated December 7, 2000; or Revision 2, dated October 7, 2004. After the effective date of this AD, only Revision 2 of the service bulletin may be used.

(1) If the lubrication passage is not blocked and no fractured bearing or loose or damaged joint is found, do paragraph (h) of this AD.

(2) If the lubrication passage is blocked and no fractured bearing or loose or damaged joint is found, repeat the inspection required by paragraph (f) of this AD at intervals not to exceed 60 days, and within 24 months after doing the initial inspection, do the actions required by paragraph (g)(3) of this AD.

(3) If any fractured bearing or loose or damaged joint is found, before further flight, do the corrective action (including removal of the link assembly, inspection for damage, and replacement with a new assembly if damaged), as specified in Part 2 of the Accomplishment Instructions of the service bulletin.

New Requirements of This AD

(h) For airplanes having line numbers 1 through 819 inclusive, on which the lubrication passage has not been found blocked and no fractured bearing or loose or damaged joint has been found, and on which Part 2 of Boeing Alert Service Bulletin 767-27A0167 has not been done: Within 24 months after the most recent inspection in accordance with paragraph (b)(1) of AD 2002-01-15, remove the link assembly, perform a detailed inspection of the link assembly for damage, and reinstall the undamaged link or replace it with a new link assembly that has been inspected and found to be free of damage or other discrepancy, in accordance with Part 2 of the Accomplishment Instructions of Boeing Alert Service Bulletin 767-27A0167, Revision 2, dated October 7, 2004.

Detailed Inspection of Bearing Ball and Outer Race

(i) For all airplanes: Remove the link assembly, and perform a detailed inspection for cracking of the bearing ball, and for severe wear of the outer race of the bearing, in accordance with Part 3 of the Accomplishment Instructions of Boeing Alert Service Bulletin 767-27A0167, Revision 2, dated October 7, 2004. Do this action at the applicable time specified in paragraph (i)(1) or (i)(2) of this AD, as applicable. Then, repeat this action at intervals not to exceed 72 months. If any cracking or severe wear is found during any inspection required by this paragraph: Before further flight, do the corrective action in accordance with Part 2 of the Accomplishment Instructions of Boeing Alert Service Bulletin 767-27A0167, Revision 2, dated October 7, 2004, or do paragraph (j) of this AD.

(1) For airplanes identified in the service bulletin as being in Group 1: Within 72 months after doing Part 2 of the Accomplishment Instructions of Boeing Service Bulletin 767-27A0167, dated December 7, 2000; or Revision 2, dated October 7, 2004, or within 18 months after the effective date of this AD, whichever is later.

(2) For airplanes identified in the service bulletin as being in Group 2: Do the initial inspection within 72 months since the date of issuance of the original standard airworthiness certificate or the date of issuance of the original export certificate of airworthiness; or within 18 months after the effective date of this AD; whichever is later.

Optional Terminating Action

(j) For all airplanes: Replacing the existing link assemblies of the trailing edge flaps with new, improved or modified assemblies that contain new bearings, in accordance with the Accomplishment Instructions of Boeing Service Bulletin 767-27-0196, dated April 21, 2005, ends the repetitive removal/inspections required by paragraph (g), (h), and (i) of this AD, as applicable.

Actions Accomplished Previously

(k) Inspections and corrective actions done before the effective date of this AD in accordance with the Accomplishment Instructions of Boeing Alert Service Bulletin 767-27A0167, Revision 1, dated June 6, 2002, are acceptable for compliance with the corresponding actions required by this AD.

No Reporting Requirement

(l) Although Boeing Alert Service Bulletin 767-27A0167, Revision 2, dated October 7, 2004, specifies to submit certain information to the manufacturer, this AD does not require that action.

Alternative Methods of Compliance (AMOCs)

(m)(1) The Manager, Seattle Aircraft Certification Office (ACO), FAA, has the authority to approve AMOCs for this AD, if requested in accordance with the procedures found in 14 CFR 39.19.

(2) An AMOC that provides an acceptable level of safety may be used for any repair required by this AD, if it is approved by an Authorized Representative for the Boeing Commercial Airplanes Delegation Option Authorization Organization who has been authorized by the Manager, Seattle ACO, to make those findings. For a repair method to be approved, the repair must meet the certification basis of the airplane, and the approval must specifically refer to this AD.

(3) Before using any AMOC approved in accordance with 14 CFR 39.19 on any airplane to which the AMOC applies, notify the appropriate principal inspector in the FAA Flight Standards Certificate Holding District Office.

(4) AMOCs approved previously according to AD 2002-01-15 are approved as AMOCs for the corresponding provisions of this AD.

Issued in Renton, Washington, on September 16, 2005.
Ali Bahrami,
Manager, Transport Airplane Directorate, Aircraft Certification Service.

[FR Doc. 05-19233 Filed 9-26-05; 8:45 am]

BILLING CODE 4910-13-P